DEPARTMENT OF COMMERCE

National Oceanic and Atmospheric Administration

RIN 0648-XF097

South Atlantic Fishery Management Council (Council)—Public Meetings

AGENCY: National Marine Fisheries Service (NMFS), National Oceanic and Atmospheric Administration (NOAA), Commerce.

ACTION: Notice of public hearings/scoping meetings and question & answer session via Webinar.

SUMMARY: The South Atlantic Fishery Management Council (Council) will hold a series of public hearings/scoping meetings on four amendments to the Snapper Grouper Fishery Management Plan (FMP) for the South Atlantic Region:

Amendment 43 addressing management options for red snapper and recreational reporting;

Vision Blueprint Regulatory Amendment 26 addressing recreational management options based on the Council's Vision Blueprint for the Snapper Grouper Fishery;

Vision Blueprint Regulatory Amendment 27 addressing commercial management options based on the Council's Vision Blueprint for the Snapper Grouper Fishery; and

Amendment 44 addressing management measures for yellowtail snapper including allocations.

Scoping comments will be accepted for Snapper Grouper Amendment 43 and the Vision Blueprint amendments. Public hearing comments will be accepted for Amendment 44. The Council will hold a Question & Answer Session via Webinar for measures proposed in Amendment 44 for yellowtail snapper and possible management actions pertaining to red snapper and recreational reporting to be addressed in Amendment 43.

DATES: The series of public hearings/scoping meetings/Webinars will begin at 6 p.m. on January 12, 2017 and end at close of business on February 8, 2017. Registration is required for Webinars. Registration information will be posted on the SAFMC Web site at http://safmc.net/safmc-meetings/public-hearing-and-scoping-meeting-schedule/ as it becomes available. The meetings will be held on the following dates and locations:

ADDRESSES:

1. January 12, 2017—Public scoping via Webinar for Vision Blueprint Regulatory Amendment 26 (Recreational) and Vision Blueprint Regulatory Amendment 27 (Commercial).

2. January 17, 2017—Question & Answer Session via webinar for Snapper Grouper Amendment 44 (yellowtail snapper) and Snapper Grouper Amendment 43 (red snapper and recreational reporting).

3. January 18, 2017—Listening Station with emphasis on the Public Hearing for Snapper Grouper Amendment 44 (yellowtail snapper)—Harvey Government Center, 1200 Truman Avenue, 2nd Floor, Key West, FL 33040; Phone: 305/295-4385. Note: Public comment will be accepted on management measures Proposed in the public hearing document for in the Snapper GrouperAmendment 44 and scoping items in Amendment 43 and the Vision Blueprint Amendments.

4. January 19, 2017—Listening Station with emphasis on the Public Hearing for Snapper Grouper Amendment 44 (yellowtail snapper)—Hyatt Place Marathon, 1996 Overseas Highway, Marathon, FL 33050; Phone: 305/743-1234. Note:Public comment will be accepted on management measures proposed in the Public hearing document for Snapper Grouper Amendment 44 and scoping items in Amendment 43 and the Vision Blueprint Amendments.

5. January 23, 2017—Lexington Hotel & Conference Center, 1515 Prudential Drive, Jacksonville, FL 32207: Phone 904/396-5100.

6. January 24, 2017—Hilton Cocoa Beach Oceanfront, 1550 N. Atlantic Avenue, Cocoa Beach, FL 32931; Phone: 321/799-0003.

7. January 25, 2017—Flagler Place, 201 SW. Flagler Avenue, Stuart, FL 34994; Phone: 772/985-3863.

8. January 26, 2017—Hilton Key Largo, 97000 Overseas Highway, Key Largo, FL 33037; Phone: 305/852-5553.

9. January 30, 2017—Murrells Inlet Community Center, 4450 Murrells Inlet Road, Murrells Inlet, SC 29576; Phone: 843/651-4152.

10. January 31, 2017—Crowne Plaza Hotel, 4831 Tanger Outlet Blvd., N. Charleston, SC 29418; Phone: 843/744-4422.

11. February 1, 2017—Richmond Hill City Center, 520 Cedar Street, Richmond Hill, GA 31324; Phone: 912/445-0043.

12. February 6, 2017—Hilton Wilmington Riverside, 301 N. Water Street, Wilmington, NC 28401; Phone: 910/763-5900.

13. February 7, 2017—Hatteras Community Center, 57689 NC Highway 12, Hatteras, NC 27943; Phone: 252-986-2161 or 252/986-2109.

14. February 8, 2017—Doubletree by Hilton, 2717 W. Fort Macon Road, Atlantic Beach, NC 28512; Phone: 252/240-1155.

Council address: South Atlantic Fishery Management Council, 4055 Faber Place Drive, Suite 201, N. Charleston, SC 29405.

FOR FURTHER INFORMATION CONTACT: Kim Iverson, Public Information Officer, SAFMC; phone 843/571-4366 or toll free 866/SAFMC-10; FAX 843/769-4520; email: kim.iverson@safmc.net.

SUPPLEMENTARY INFORMATION:

Agenda

The Council is soliciting public hearing comments on management measures proposed for yellowtail snapper through Snapper Grouper Amendment 44. The amendment includes management actions and alternatives for shifts in allocations between commercial and recreational sectors as well as an action to merge current annual catch limits for yellowtail snapper in the Gulf of Mexico and South Atlantic.

Public scoping meetings are being held for the following amendments:

(1) Snapper Grouper Amendment 43—The red snapper fishery remains closed to harvest in federal waters in the South Atlantic. The stock continues to experience overfishing due to the number of discarded red snapper as fishermen target other species in the snapper grouper management complex.

The Council is soliciting public input on ways to reduce the number of red snapper discards, improve the survivorship of discarded red snapper, improve estimates of private recreational catch and effort, and limit harvest of red snapper to below the annual catch limit if discards are reduced sufficiently.

(2) Snapper Grouper Vision Blueprint Recreational Regulatory Amendment 26—The amendment includes items identified in the 2016-2020 Vision Blueprint for the Snapper Grouper Fishery pertaining to recreational management measures including removing size limits for deepwater species; re-evaluation of the shallow water grouper closure; re-evaluation of aggregate bag limits and specification of individual bag limits for some species; and modification to the recreational minimum size limit for black sea bass.

(3) Snapper Grouper Vision Blueprint Commercial Regulatory Amendment 27—The amendment includes items identified in the 2016-2020 Vision Blueprint for the Snapper Grouper Fishery pertaining to commercial management measures including commercial split seasons for deepwater species, red porgy, and greater amberjack; re-evaluation of the shallow water grouper closure; trip limits and step-downs; and fishing year changes.

Copies of the public hearing document, scoping documents, and other relevant information will be posted on the Council's Web site at as they become available.

Submitting Written Comments

The Council requests that written comments be submitted using the online public comment form for each amendment available from the Council's Web site at http://safmc.net/meetings/public-hearing-and-scoping-meeting-schedule. Click on the “Submit Written Comments” section of the page to access individual links for providing comments. Comments submitted using the online comment forms are immediately posted to the Council's Web site and available for all Council members and the public to view.

Written comments may also be submitted by mail or by FAX. Comments may be submitted by mail to: Gregg Waugh, Executive Director, SAFMC, 4055 Faber Place Drive, Suite 201, North Charleston, SC 29405. Fax comments to 843-769-4520.

Public hearing and scoping comments for the amendments will be accepted until 5:00 p.m. on February 10, 2017.

Special Accommodations

These meetings are physically accessible to people with disabilities. Requests for auxiliary aids should be directed to the council office (see ADDRESSES) 3 business days prior to the meeting.

Note: The times and sequence specified in this agenda are subject to change.

Authority: 16 U.S.C. 1801 et seq.

Dated: December 20, 2016.
Tracey L. Thompson,
Acting Director, Office of Sustainable Fisheries, National Marine Fisheries Service.

[FR Doc. 2016-30999 Filed 12-23-16; 8:45 am]

BILLING CODE 3510-22-P